DEPARTMENT OF HEALTH AND HUMAN SERVICES

Centers for Disease Control and Prevention

Advisory Committee on Breast Cancer in Young Women (ACBCYW)

In accordance with section 10(a)(2) of the Federal Advisory Committee Act (Pub. L. 92-463), the Centers for Disease Control and Prevention (CDC), announces the following meeting of the aforementioned committee:

DATES: Times and Dates:

12 p.m.-5 p.m., April 18, 2012,

9 a.m.-5 p.m., April 19, 2012,

8 a.m.-12 p.m., April 20, 2012.

Place: Atlanta Marriott Perimeter Center, 246 Perimeter Center Parkway NE., Atlanta, Georgia 30346.

Status: Open to the public, limited only by the space available.

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters To Be Discussed: The agenda will include discussions on approaches to increase awareness of clinicians/practitioners regarding topics such as breast health, symptoms, diagnosis, and treatment of breast cancer in young women; and information needs and delivery mechanisms for women at higher risks for developing breast cancer.

Agenda items are subject to change as priorities dictate.

Online Registration Required: All ACBCYW attendees must register for the meeting online in advance at http://www.cdc.gov/cancer/breast/what_cdc_is_doing/meetings.htm. Please complete all the required fields before submitting your registration and submit no later than April 3, 2012.

CONTACT PERSON FOR MORE INFORMATION: Temeika L. Fairley, Ph.D., Designated Federal Officer, National Center for Chronic Disease Prevention and Health Promotion, CDC, 5770 Buford Hwy, NE., Mailstop K52, Atlanta, Georgia 30341, Telephone (770) 488-4518, Fax (770) 488-4760, Email: acbcyw@cdc.gov

The Director, Management Analysis and Services Office, has been delegated the authority to sign Federal Register notices pertaining to announcements of meetings and other committee management activities, for both the Centers for Disease Control and Prevention, and Agency for Toxic Substances and Disease Registry.

Dated: March 13, 2012.
Elaine L. Baker,
Director, Management Analysis and Services Office, Centers for Disease Control and Prevention.

[FR Doc. 2012-6641 Filed 3-19-12; 8:45 am]

BILLING CODE 4163-18-P